FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Bergen Logistics, LLC (OFF),455 Hillsdale Avenue, Hillsdale, NJ 07642, Officers: Carl R. Varner, Managing Vice President (QI), John D. Fornazor, President, Application Type: QI Change

Cargo Partner Network, Inc. (NVO & OFF), One Cross Island Plaza, Suite 203, Rosedale, NY 11422, Officers: Brian Best, Vice President (QI), Marko Meze, President, Application Type: QI Change

Continental Services & Carrier Inc. (NVO & OFF), 6045 NW 87 Avenue, Miami, FL 33178, Officers: Rodolfo Luciani, Vice President (QI), Mirtha Lopez Luciani, President, Application Type: Add Trade Names Project Freight and Link Logistics

Dalko Resources, Inc. (NVO & OFF), 99 Canal Street, Sharpsville, PA 16150, Officers: William E. Welch III, President of Sales (QI), Leonard O. Grandy, CEO, Application Type: New NVO & OFF License

FML Logistics, Inc. (NVO & OFF), 758 S. Glasgow Avenue, Inglewood, CA 90301, Officers: Lang-Yun Chen, Vice President Ocean Services (QI), Desmond C. Chandiram, President, Application Type: New NVO & OFF License

Golden Wings International Trade & Logistics, Inc. (OFF), 16401 Golf Club Road, Suite 206, Weston, FL 33326, Officers: Sascha Ibarra, President (QI), Elizabeth Rodriguez, Secretary, Application Type: New OFF License

Goodrich Americas, Inc. (NVO & OFF), 45 Knightsbridge Road, Suite 106, Piscataway, NJ 08854, Officers: Rajkumar Walanj, Secretary (QI), Venkataraman Thyagarajan, President, Application Type: New NVO & OFF License

Infiniti Logistics, Inc. (NVO & OFF), 4701 College Boulevard, Suite 104, Leawood, KS 66211, Officer:, Dave Gibbons, President (QI), Application Type: New NVO & OFF License

Lavinstar Logistics, Inc. (NVO & OFF), 485-C Route 1 South Building C, Suite 310, Iselin, NJ 08830, Officers: Martin J. Aranha, President (QI), Simon J. Rego, Vice President, Application Type: Name Change to Lavinstar America, Inc.

Lotus Trading Corp (NVO & OFF), 408 NE. 6th Street, Unit 228, Fort Lauderdale, FL 33304, Officers: Juliet Castillo, Treasurer (QI), Aura C. Vides, President, Application Type: New NVO & OFF License

Mainfreight, Inc. dba Mainline (NVO & OFF), 1400 Glenn Curtiss Street, Carson, CA 90746, Officers: Jason Braid, Vice President, Air and Ocean (QI), John Hepworth, President, Application Type: QI Change

MV Logistics, Inc. (NVO & OFF), 20 Mingarry Drive, Richmond Hill, GA 31324, Officers: Bruce F. McCray, President (QI), Peggy L. Schmidt, Secretary, Application Type: New NVO & OFF License

NewPort Tank Containers, Inc. (NVO), 1340 Depot Street, Suite 200, Cleveland, OH 44116, Officers: Frederick M. Hunger, Chairman (QI), Michael DeRijk, President, Application Type: Name Change to NewPort Tank Containers (USA) LLC

Ocean View Logistics Limited Liability Company (NVO & OFF), 354 Whiton Street, Jersey City, NJ 07304, Officers: Isabel Heasty, Member/Manager (QI), Jose R. Nunez, Member/Manager, Application Type: New NVO & OFF License

Plex International Logistics, L.L.C. (NVO), 1850 NW. 84th Avenue, Suite 116, Doral, FL 33126, Officers: Luciano Zucki, Member/Manager (QI), Paulo Gait, Member/Manager, Application Type: New NVO License

Right Link Freight Forwarding Corp. (NVO & OFF), 1600 NW 84th Avenue, Doral, FL 33126, Officers: Sonia Rullier, Secretary (QI), Hilario M. Prieto Herrera, President, Application Type: New NVO & OFF License

Seibu Transportation Co., Ltd. (NVO & OFF), 5343 W. Imperial Highway, Suite 900, Los Angeles, CA 90045, Officers: Akihiro Otaka, Vice President (QI), Shigenori Matsubara, President, Application Type: Name Change to Seino Super Express Co., Ltd.

Specialty Cargo, Inc. (NVO & OFF), 2580 S. 156th Street, Bldg. A, Room 210, Seattle, WA 98158, Officers: Brian A. Swett, Treasurer (QI), Linda M. Swett, Secretary, Application Type: New NVO & OFF License

Supply Chain Shipping LLC (NVO & OFF), 4607 44th Street SE, Grand Rapids, MI 49512, Officers: James W. Ward, COO (QI), Leslie Brand, CEO, Application Type: QI Change

Tradewinds International, LLC (NVO), 455 Hillsdale Avenue, Hillsdale, NJ 07642, Officers: Carl R. Varner, Managing Vice President (QI), John D. Fornazor, President, Application Type: QI Change

Transoceanic Development, L.L.C. (OFF), 1615 Poydras Street, Suite 1255, New Orleans, LA 70112, Officers: Gregory R. Rusovich, Manager (QI), Colin G. Rusovich, Director, Application Type: New OFF License

Transportation Services International Inc. (NVO & OFF), 1600 Lower Road, Linden, NJ 07036, Officers: Richard Harty, President (QI), Tabytha Hexx, Secretary, Application Type: NVO & OFF License

Trenmar International Shipping, Inc. (OFF), 7 Carrington Crescent, Manorville, NY 11949-2957, Officers: Roy A. Trendel, President (QI), Erich H. Trendel, Secretary, Application Type: QI Change

By the Commission.
Dated: August 25, 2014.
Rachel E. Dickon,
Assistant Secretary.

[FR Doc. 2014-20615 Filed 8-28-14; 8:45 am]

BILLING CODE 6730-01-P